DEPARTMENT OF ENERGY

Federal Energy Regulatory Commission

Combined Notice of Filings

Take notice that the Commission has received the following Natural Gas Pipeline Rate and Refund Report filings:

Filings Instituting Proceedings

Docket Numbers: RP17-808-000.

Applicants: Algonquin Gas Transmission, LLC.

Description: Algonquin Gas Transmission, LLC—AFT-E Answer to Protests, Docket No. RP17-808.

Filed Date: 6/29/17.

Accession Number: 20170629-5210.

Comments Due: 5 p.m. ET 7/11/17.

Docket Numbers: RP17-858-000.

Applicants: Algonquin Gas Transmission, LLC.

Description: Algonquin Gas Transmission, LLC submits tariff filing per 154.204: Negotiated Rates—US Gas to Macquarie 794260 & 794261 to be effective 7/1/2017.

Filed Date: 6/29/17.

Accession Number: 20170629-5034.

Comments Due: 5 p.m. ET 7/11/17.

Docket Numbers: RP17-859-000.

Applicants: Iroquois Gas Transmission System, L.P.

Description: Iroquois Gas Transmission System, L.P. submits tariff filing per 154.204: 06/29/17 Negotiated Rates—ENI Trading & Shipping (RTS) 7825-02 to be effective 7/1/2017.

Filed Date: 6/29/17.

Accession Number: 20170629-5043.

Comments Due: 5 p.m. ET 7/11/17.

Docket Numbers: RP17-861-000.

Applicants: Texas Gas Transmission, LLC.

Description: Texas Gas Transmission, LLC submits tariff filing per 154.204: Cap Rel Neg Rate Agmts (RE Gas 35433, 34955 to BP 36398, 36399) to be effective 7/1/2017.

Filed Date: 6/29/17.

Accession Number: 20170629-5111.

Comments Due: 5 p.m. ET 7/11/17.

Docket Numbers: RP17-862-000.

Applicants: Gulf South Pipeline Company, LP.

Description: Gulf South Pipeline Company, LP submits tariff filing per 154.204: Cap Rel Neg Rate Agmts (Atlanta 8438 to various eff 7-1-17) to be effective 7/1/2017.

Filed Date: 6/29/17.

Accession Number: 20170629-5115.

Comments Due: 5 p.m. ET 7/11/17.

Docket Numbers: RP17-863-000.

Applicants: Gulf South Pipeline Company, LP.

Description: Gulf South Pipeline Company, LP submits tariff filing per 154.204: Cap Rel Neg Rate Agmt (PH 41455 to Texla 48365) to be effective 7/1/2017.

Filed Date: 6/29/17.

Accession Number: 20170629-5117.

Comments Due: 5 p.m. ET 7/11/17.

Docket Numbers: RP17-864-000.

Applicants: Gulf South Pipeline Company, LP.

Description: Gulf South Pipeline Company, LP submits tariff filing per 154.204: Remove Expiring Agmts from the Tariff to be effective 7/1/2017.

Filed Date: 6/29/17.

Accession Number: 20170629-5120.

Comments Due: 5 p.m. ET 7/11/17.

Docket Numbers: RP17-865-000.

Applicants: Texas Eastern Transmission, LP.

Description: Texas Eastern Transmission, LP submits tariff filing per 154.204: Gulf Markets Project—Cameron Non-Conforming K911327 to be effective 8/1/2017.

Filed Date: 6/29/17.

Accession Number: 20170629-5137.

Comments Due: 5 p.m. ET 7/11/17.

Docket Numbers: RP17-866-000.

Applicants: Natural Gas Pipeline Company of America.

Description: Natural Gas Pipeline Company of America LLC submits tariff filing per 154.204: Amendment Negotiated Rate Filing—Mercuria Energy America to be effective 6/29/2017.

Filed Date: 6/29/17.

Accession Number: 20170629-5165.

Comments Due: 5 p.m. ET 7/11/17.

Docket Numbers: RP17-867-000.

Applicants: Texas Eastern Transmission, LP.

Description: Texas Eastern Transmission, LP submits tariff filing per 154.204: Lebanon Extension Negotiated Rates—Gulfport/City of Hamilton to be effective 8/1/2017.

Filed Date: 6/29/17.

Accession Number: 20170629-5177.

Comments Due: 5 p.m. ET 7/11/17.

Docket Numbers: RP17-868-000.

Applicants: Texas Eastern Transmission, LP.

Description: Texas Eastern Transmission, LP submits tariff filing per 154.403: EPC AUG 2017 FILING to be effective 8/1/2017.

Filed Date: 6/29/17.

Accession Number: 20170629-5190.

Comments Due: 5 p.m. ET 7/11/17.

Docket Numbers: RP17-869-000.

Applicants: Texas Eastern Transmission, LP.

Description: Texas Eastern Transmission, LP submits tariff filing per 154.203: Lebanon Extension Tariff Compliance Filing to be effective 8/1/2017.

Filed Date: 6/29/17.

Accession Number: 20170629-5215.

Comments Due: 5 p.m. ET 7/11/17.

Docket Numbers: RP17-870-000.

Applicants: Tennessee Gas Pipeline Company, L.L.C.

Description: Tennessee Gas Pipeline Company, L.L.C. submits tariff filing per 154.204: Volume No. 2—Cameron LNG, L.L.C Non-Conforming FT-A to be effective 8/1/2017.

Filed Date: 6/29/17.

Accession Number: 20170629-5223.

Comments Due: 5 p.m. ET 7/11/17.

Docket Numbers: RP17-879-000.

Applicants: Iroquois Gas Transmission System, L.P.

Description: Measurement Variance/Fuel Use Factors of Iroquois Gas Transmission System, L.P. under RP17-879.

Filed Date: 6/29/17.

Accession Number: 20170629-5257.

Comments Due: 5 p.m. ET 7/11/17.

Docket Numbers: RP88-67-000.

Applicants: Texas Eastern Transmission, LP.

Description: Texas Eastern Transmission, LP submits the audit report and related work papers of the independent auditor respecting the costs & recoveries under the Settlement for Year 26 & Year 27 (partial period), the most recently completed annual period under the S.

Filed Date: 6/29/17.

Accession Number: 20170629-5131.

Comments Due: 5 p.m. ET 7/11/17.

Docket Numbers: RP17-871-000.

Applicants: NGO Transmission, Inc.

Description: NGO Transmission, Inc. submits tariff filing per 154.204: Ministerial Filing to Update Preliminary Statement to be effective 8/1/2017.

Filed Date: 6/30/17.

Accession Number: 20170630-5060.

Comments Due: 5 p.m. ET 7/12/17.

Docket Numbers: RP17-872-000.

Applicants: Texas Gas Transmission, LLC.

Description: Texas Gas Transmission, LLC submits tariff filing per 154.204: Cap Rel Neg Rate Agmt (Jay-Bee 34446 to MacQuarie 36400) to be effective 7/1/2017.

Filed Date: 6/30/17.

Accession Number: 20170630-5063.

Comments Due: 5 p.m. ET 7/12/17.

Docket Numbers: RP17-873-000.

Applicants: Texas Gas Transmission, LLC.

Description: Texas Gas Transmission, LLC submits tariff filing per 154.204: Cap Rel Neg Rate Agmt (Gulfport 35446 to BP 36411) to be effective 7/1/2017.

Filed Date: 6/30/17.

Accession Number: 20170630-5064.

Comments Due: 5 p.m. ET 7/12/17.

Docket Numbers: RP17-874-000.

Applicants: Rockies Express Pipeline LLC.

Description: Rockies Express Pipeline LLC submits tariff filing per 154.204: Administrative Updates to FERC Gas Tariff to be effective 8/1/2017.

Filed Date: 6/30/17.

Accession Number: 20170630-5081.

Comments Due: 5 p.m. ET 7/12/17.

Docket Numbers: RP17-875-000.

Applicants: WBI Energy Transmission, Inc.

Description: WBI Energy Transmission, Inc. submits tariff filing per 154.204: 2017 Section 46 Removal—Nomination Aggregation to be effective 7/31/2017.

Filed Date: 6/30/17.

Accession Number: 20170630-5082.

Comments Due: 5 p.m. ET 7/12/17.

Docket Numbers: RP17-876-000.

Applicants: El Paso Natural Gas Company, L.L.C.

Description: El Paso Natural Gas Company, L.L.C. submits tariff filing per 154.601: Negotiated Rate Agreement Update Filing (WPX July 2017) to be effective 7/1/2017.

Filed Date: 6/30/17.

Accession Number: 20170630-5087.

Comments Due: 5 p.m. ET 7/12/17.

Docket Numbers: RP17-877-000.

Applicants: Southern Star Central Gas Pipeline, Inc.

Description: Southern Star Central Gas Pipeline, Inc. submits tariff filing per 154.204: Vol. 2 Negotiated and Non-Conforming Flexible Park & Loan—Tenaska—Amendment to be effective 7/1/2017.

Filed Date: 6/30/17.

Accession Number: 20170630-5093.

Comments Due: 5 p.m. ET 7/12/17.

Docket Numbers: RP17-878-000.

Applicants: Transcontinental Gas Pipe Line Company.

Description: Transcontinental Gas Pipe Line Company, LLC submits tariff filing per 154.203: Texas Eastern OFO Penalty Sharing Report (Rate Schedule S-2) to be effective N/A.

Filed Date: 6/30/17.

Accession Number: 20170630-5102.

Comments Due: 5 p.m. ET 7/12/17.

Docket Numbers: RP17-880-000.

Applicants: Dauphin Island Gathering Partners.

Description: Dauphin Island Gathering Partners submits tariff filing per 154.204: Negotiated Rate Filing 7-1-2017 to be effective 7/1/2017.

Filed Date: 6/30/17.

Accession Number: 20170630-5141.

Comments Due: 5 p.m. ET 7/12/17.

Docket Numbers: RP17-881-000.

Applicants: Transcontinental Gas Pipe Line Company.

Description: Transcontinental Gas Pipe Line Company, LLC submits tariff filing per 154.204: FOS—FT—Proj Facilities Effective Date to be effective 7/31/2017.

Filed Date: 6/30/17.

Accession Number: 20170630-5147.

Comments Due: 5 p.m. ET 7/12/17.

Docket Numbers: RP17-882-000.

Applicants: Northern Natural Gas Company.

Description: Northern Natural Gas Company submits tariff filing per 154.204: 20170630 Negotiated Rate to be effective 7/1/2017.

Filed Date: 6/30/17.

Accession Number: 20170630-5196.

Comments Due: 5 p.m. ET 7/12/17.

Docket Numbers: RP17-883-000.

Applicants: Transcontinental Gas Pipe Line Company.

Description: Transcontinental Gas Pipe Line Company, LLC submits tariff filing per 154.204: Non-Conforming Agreements_Dalton to be effective 8/1/2017.

Filed Date: 6/30/17.

Accession Number: 20170630-5200.

Comments Due: 5 p.m. ET 7/12/17.

Docket Numbers: RP17-884-000.

Applicants: Trailblazer Pipeline Company LLC.

Description: Trailblazer Pipeline Company LLC submits tariff filing per 154.204: Neg Rate 2017-06-30 TIGT, Shell to be effective 7/1/2017.

Filed Date: 6/30/17.

Accession Number: 20170630-5264.

Comments Due: 5 p.m. ET 7/12/17.

Docket Numbers: RP17-889-000.

Applicants: East Tennessee Natural Gas, LLC.

Description: East Tennessee Natural Gas, LLC submits tariff filing per 154.204: PAL FOSA Evergreen Cleanup to be effective 8/6/2017.

Filed Date: 7/6/17.

Accession Number: 20170706-5134.

Comments Due: 5 p.m. ET 7/18/17.

Docket Numbers: RP17-890-000.

Applicants: Alliance Pipeline L.P.

Description: Alliance Pipeline L.P. submits tariff filing per 154.204: Negotiated Rate PAL 2017-07 (Mieco) to be effective 7/7/2017.

Filed Date: 7/6/17.

Accession Number: 20170706-5152.

Comments Due: 5 p.m. ET 7/18/17.

Docket Numbers: RP17-891-000.

Applicants: Dominion Energy Transmission, Inc.

Description: Dominion Energy Transmission, Inc. submits tariff filing per 154.203: DETI—2017 Overrun and Penalty Revenue Distribution to be effective N/A.

Filed Date: 7/7/17.

Accession Number: 20170707-5015.

Comments Due: 5 p.m. ET 7/19/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2017.
Kimberly D. Bose,
Secretary.

[FR Doc. 2017-15248 Filed 7-19-17; 8:45 am]

BILLING CODE 6717-01-P